SECURITIES AND EXCHANGE COMMISSION

Submission for OMB Review; Comment Request

Upon Written Request, Copies Available From: Securities and Exchange Commission, Office of Filings and Information Service, Washington, DC 20549

Extension:

Rule 15Bc3-1 and Form MSDW, SEC File No. 270-93, OMB Control No. 3235-0087

Notice is hereby given that, pursuant to the Paperwork Reduction Act of 1995 (44 U.S.C. 3501 et seq.), the Securities and Exchange Commission (“Commission”) has submitted to the Office of Management and Budget (“OMB”) a request for approval of extension of the previously approved collection of information discussed below.

Rule 15Bc3-1 under the Securities Exchange Act of 1934 provides that a notice of withdrawal from registration with the Commission as a bank municipal securities dealer must be filed on Form MSDW.

The Commission uses the information submitted on Form MSDW in determining whether it is in the public interest to permit a bank municipal securities dealer to withdraw its registration. This information is also important to the municipal securities dealer's customers and to the public, because it provides, among other things, the name and address of a person to contact regarding any of the municipal securities dealer's unfinished business.

The staff estimates that approximately 20 respondents will utilize this notice annually, with a total burden for all respondents of 10 hours, based upon past submissions. The staff estimates that the average number of hours necessary to comply with the requirements of Rule 15Bc3-1 is .5 hours. The average cost per hour is approximately $101. Therefore, the total cost of compliance for the respondents is $1,010 ($101 × 5 × 20 = $1,010).

Providing the information on the notice is mandatory in order to withdraw from registration with the Commission as a bank municipal securities dealer. The information contained in the notice will not be confidential. An agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, D.C. 20503; and (ii) Michael E. Bartell, Associate Executive Director, Office of Information Technology, Securities and Exchange Commission, 450 Fifth Street, N.W., Washington, D.C. 20549. Comments must be submitted to OMB within 30 days of this notice.

Dated: July 3, 2001.
Margaret H. McFarland,
Deputy Secretary.

[FR Doc. 01-17266 Filed 7-10-01; 8:45 am]

BILLING CODE 8010-01-M